DEPARTMENT OF HEALTH AND HUMAN SERVICES

Administration for Community Living

Proposed Information Collection Activity; Public Comment Request; Extension of a Currently Approved Information Collection; State Developmental Disabilities Council—Annual Program Performance Report (PPR) (OMB Control Number 0985-0033)

AGENCY: Office on Intellectual and Developmental Disabilities (OIDD), Administration for Community Living (ACL), Department of Health and Human Services (HHS).

ACTION: Notice.

SUMMARY: The Administration for Community Living (ACL) is announcing an opportunity for the public to comment on ACL's intention to extend the use of the current PPR data collection necessary to determine grantee compliance with Part B of the Developmental Disabilities Assistance and Bill of Rights Act of 2000 (DD Act). Under the Paperwork Reduction Act of 1995 (PRA), Federal agencies are required to publish a notice in the Federal Register concerning each proposed collection of information, including each proposed extension of an existing collection of information, and to allow 60 days for public comment in response to the proposed action. This notice solicits comments on a proposed extension to an existing data collection related to the State Councils on Developmental Disabilities (State Councils) Annual Program Performance Report (PPR). On an annual basis, each Council must submit a PPR to describe the extent to which annual progress is being achieved on the 5-year State plan goals. The PPR will be used by: (1) The Council as a planning document to track progress made in meeting state plan goals; (2) the citizenry of the State as a mechanism for monitoring progress and activities on the plans of the Council; and (3) the Department as a stewardship tool for ensuring compliance with the Developmental Disabilities Assistance and Bill of Rights Act and for monitoring and providing technical assistance (e.g., during site visits), and support for management decision making.

DATES: Submit written or electronic comments on the collection of information by June 1, 2021.

ADDRESSES: Submit electronic comments on the collection of information to Sara.Newell-Perez@acl.hhs.gov.

FOR FURTHER INFORMATION CONTACT: Sara Newell-Perez at (202) 795-7413 or Sara.Newell-Perez@acl.hhs.gov.

SUPPLEMENTARY INFORMATION: Under the PRA (44 U.S.C. 3501-3520), Federal agencies must obtain approval from the Office of Management and Budget (OMB) for each collection of information they conduct or sponsor. “Collection of information” includes agency requests or requirements that members of the public submit reports, keep records, or provide information to a third party.

Section 3506(c)(2)(A) of the PRA requires Federal agencies to provide a 60-day notice in the Federal Register concerning each proposed collection of information, including each proposed extension or update of an existing collection of information, before submitting the collection to OMB for approval.

The proposed data collection represents extension of a currently approved information collection. In compliance with the requirements of the PRA, the Administration on Community Living (ACL) is soliciting public comment on the information collection described above. The Department specifically requests comments on: (a) Whether the proposed collection of information is necessary for the proper performance of the function of the agency, including whether the information will have practical utility; (b) the accuracy of the agency's estimate of the burden of the proposed collection of information, including the validity of the methodology and assumptions used; (c) the quality, utility, and clarity of the information to be collected; (d) ways to minimize the burden of the collection of information on respondents, including through the use of automated collection techniques, when appropriate, and other forms of information technology. Consideration will only be given to comments and suggestions submitted within 60 days of this publication.

To view and comment on the proposed State Councils on Developmental Disabilities Annual Program Performance Report, please visit the ACL public input page: https://www.acl.gov/about-acl/policy-and-regulations.

ACL estimates the burden of this collection of information as follows:

The total estimated hour burden per respondent for the proposed DD Council PPR is 172 burden hours per response. The number of hours to complete the PPR multiplied by 56 State Council programs, results in a total estimated annual burden of 9,632.

The burden is reflective of performance measures introduced in the FFY 2017-2021 state plan cycle. These measures hone in on individual and family advocacy, as well as systems change advocacy. One example of these measures is a reporting of the number of promising and/or best practices improved based on results of systems change activities. The PPR is an opportunity for Councils to report on the actual data and outcomes that resulted from carrying out the new State Plan activities. This extension was previously pilot tested by a Performance Measures Workgroup consisting of nine (9) State Council representatives. This workgroup deemed the PPR necessary to accurately capture and report on the progress of the State Councils. A separate workgroup consisting of nine (9) different State Council representatives further discussed data collection methodologies as it relates to the proposed PPR template. This PPR offers a comprehensive categorization and approach to collecting data necessary to report to Congress and other interested entities.

Respondent/data collection activity | Number of respondents | Responses per respondent | Hours per response | Annual burden hours
State Councils on Developmental Disabilities Annual Program Performance Report (PPR) | 56 | 1 | 172 | 9,632
Total | 56 | 1 | 172 | 9,632

Dated: March 26, 2021.
Alison Barkoff,
Acting Administrator and Assistant Secretary for Aging.

[FR Doc. 2021-06741 Filed 3-31-21; 8:45 am]

BILLING CODE 4154-01-P